DEPARTMENT OF ENERGY

Federal Energy Regulatory Commission

[Project No. 12635-002]

Moriah Hydro Corporation; Notice of Technical Meeting

a. Date and Time of Meeting: Thursday, October 3, 2019 at 11:00 a.m. Eastern Daylight Time.

b. Place: New York State Department of Environmental Conservation, 625 Broadway, Albany, New York 12233-0001, and via telephone conference.

c. FERC Contact: Andy Bernick at andrew.bernick@ferc.gov, or (202) 502-8660.

d. Purpose of Meeting: Commission staff is participating in a technical meeting with the U.S. Fish and Wildlife Service (FWS), New York State Department of Environmental Conservation, and Moriah Hydro Corporation (Moriah Hydro) to discuss Endangered Species Act (ESA) consultation as it relates to licensing the proposed Mineville Energy Storage Project, to be constructed in the Town of Moriah, Essex County, New York. The proposed agenda will include discussions of: (1) The Commission's hydro-licensing process and June 18, 2019, request to initiate formal consultation regarding the endangered Indiana bat and threatened northern long-eared bat; (2) the Commission's draft environmental impact statement as the basis for the project's biological assessment, per FWS' request; (3) the FWS' request for additional information, filed July 17, 2019; (4) Moriah Hydro's proposal to install a water control feature to regulate water levels within New Bed Mine; and (5) additional issues relating to ESA consultation.

e. A summary of the meeting will be prepared and filed in the Commission's public file for the project.

f. All local, state, and federal agencies, Indian tribes, and other interested parties are invited to participate in-person or by telephone. However, as in-person seating is limited, priority will be given to parties directly involved in the ESA consultation process. Please contact Andy Bernick at andrew.bernick@ferc.gov, or (202) 502-8660 by September 23, 2019, to RSVP and to receive specific instructions on how to participate.

Dated: September 9, 2019.
Kimberly D. Bose,
Secretary.

[FR Doc. 2019-19955 Filed 9-13-19; 8:45 am]

BILLING CODE 6717-01-P